DEPARTMENT OF TRANSPORTATION

Federal Aviation Administration

14 CFR Part 35

[Docket No. NE128; Notice No. 35-06-01-SC]

Special Conditions: McCauley Propeller Systems, Model Propeller 3D15C1401/C80MWX-X

AGENCY: Federal Aviation Administration (FAA), DOT.

ACTION: Notice of proposed special conditions, withdrawal.

SUMMARY: The FAA is withdrawing a previously published notice that proposed special conditions for McCauley Propeller Systems for model propeller 3D15C1401/C80MWX-X. We are withdrawing the notice in response to McCauley Propeller Systems notification to cancel the application for certification.

FOR FURTHER INFORMATION CONTACT: Jay Turnberg, ANE-110, Engine and Propeller Directorate, Aircraft Certification Service, 12 New England Executive Park, Burlington, Massachusetts 01803-5299; telephone (781) 238-7116; facsimile (781) 238-7199; e-mail jay.turnberg@faa.gov.

SUPPLEMENTARY INFORMATION:

Background

On August 2, 2006, the FAA published a notice of proposed special conditions, Notice No. 35-06-01-SC, for McCauley Propeller Systems for model propeller 3D15C1401/C80MWX-X (71 FR 43674). On November 29, 2004, McCauley Propeller applied for type certification for a new model 3D15C1401/C80MWX-X propeller. The model propeller 3D15C1401/C80MWX-X has novel or unusual design features when compared to the state of technology described in the airworthiness standards under part 35. The design feature uses blades that are constructed of composite material. The blade has a carbon fiber spar, a shell composed of braided carbon fiber and fiberglass, and metallic leading edge erosion protection to give the material strength properties and durability. The material properties depend on the carbon fiber and fiberglass lay-up and the resin matrix material that bind the blade together. Composite materials introduce fatigue characteristics and failure modes that differ from metallic materials. The proposed special conditions pertain to the effects of novel or unusual design features such as effects on the structural performance of the propellers. We requested comments on these proposed special conditions by September 1, 2006.

Reason for Withdraw

We are withdrawing Notice No. 35-06-01-SC because McCauley Propeller Systems canceled the application for certification.

Conclusion

Withdrawal of Notice No. 35-06-01-SC does not preclude the FAA from issuing another notice on the subject matter in the future or committing the agency to any future course of action. Issued in Burlington, Massachusetts on March 5, 2010.

Peter A. White,
Acting Manager, Engine and Propeller Directorate, Aircraft Certification Service.

[FR Doc. 2010-5902 Filed 3-18-10; 8:45 am]

BILLING CODE 4910-13-M